DEPARTMENT OF ENERGY

Western Area Power Administration

Loveland Area Projects—2025 Power Marketing Initiative Proposal

AGENCY: Western Area Power Administration, DOE.

ACTION: Notice of Proposed 2025 Power Marketing Initiative.

SUMMARY: Western Area Power Administration (Western), Rocky Mountain Region (RMR), a Federal power marketing agency of the Department of Energy (DOE), is seeking comments on this proposed 2025 Power Marketing Initiative (2025 PMI). Western's firm electric service contracts associated with the current marketing plan will expire September 30, 2024. This proposed 2025 PMI provides the basis for marketing the long-term firm hydroelectric resources of the Loveland Area Projects (LAP) beginning with the Federal fiscal year 2025. The 2025 PMI proposes to extend the current marketing plan, with amendments to key marketing plan principles. This Federal Register notice initiates Western's public process for the proposed 2025 PMI and requests public comments. Western will prepare and publish the final 2025 PMI in the Federal Register after all public comments are considered.

DATES: Entities and individuals interested in commenting on the proposed 2025 PMI must submit written comments to Western's RMR. Western must receive written comments by 4 p.m. M.S.T., on Monday, January 30, 2012, and reserves the right to not consider any comments received after the deadline.

Western will hold two combined public information and public comment forums, not to exceed three hours each, on the proposed 2025 PMI. On each date, the public information forum will immediately precede the public comment forum.

The public information and public comment forum dates and times are:

1. November 29, 2011, 9 a.m., M.S.T., Loveland, Colorado.

2. November 30, 2011, 1 p.m., C.S.T., Topeka, Kansas.

ADDRESSES: Submit written comments regarding this proposed 2025 PMI to Mr. Bradley S. Warren, Regional Manager, Rocky Mountain Region, Western Area Power Administration, 5555 East Crossroads Boulevard, Loveland, CO 80538-8986. Comments may also be faxed to (970) 461-7204, or e-mailed to 2025PMI@wapa.gov.

The locations for the public information and public comment forums are:

1. Loveland—Embassy Suites Hotel, Spa and Conference Center, 4705 Clydesdale Parkway, Loveland, CO 80538, telephone number (970) 593-6200.

2. Topeka—Capitol Plaza Hotel, 1717 SW Topeka Boulevard, Topeka, KS 66612, telephone number (785) 431-7200.

FOR FURTHER INFORMATION CONTACT: Mr. John C. Gierard, Hydraulic Engineer, Western Area Power Administration, Rocky Mountain Region, 5555 East Crossroads Boulevard, Loveland, CO 80538-8986, telephone (970) 461-7445.

SUPPLEMENTARY INFORMATION:

Current Marketing Plan Background

The final Post-1989 General Power Marketing and Allocation Criteria, Pick-Sloan Missouri Basin Program—Western Division (PS-MB-WD) (Post-1989 Plan), was published in the Federal Register (51 FR 4012, January 31, 1986) and provided the marketing plan principles used to market what is now referred to as LAP firm hydropower resources. The firm electric service contracts associated with the Post-1989 Plan were initially to expire in 2004. The Energy Planning and Management Program (EPAMP) Final Rule published in the Federal Register (60 FR 54151, October 20, 1995), Subpart C extended and amended the Post-1989 Plan. EPAMP extended the firm electric service contracts associated with the Post-1989 Plan through September 30, 2024, and established the Post-2004, Post-2009, and Post-2014 resource pools. The current marketing plan is inclusive of the Post-1989 Plan as extended and amended by EPAMP and the Post-2004, Post-2009, and Post-2014 power marketing initiatives.

2025 PMI Proposal Background

Western initiated informal 2025 PMI discussions with LAP firm electric service customers in the summer of 2011 by holding meetings in the RMR. In addition, Western held meetings to initiate government-to-government consultation with tribal firm electric service customers. The meetings provided customers the opportunity to review current marketing plan principles and provide informal input to Western for consideration in this 2025 PMI proposal. Key marketing plan principles discussed at the meetings with firm electric service customers included: marketing area; contract term; resource pools; marketable resource and associated withdrawal provisions; and Mount Elbert pumped-storage. Customer input for the 2025 PMI proposal supported Western extending the current marketing plan with amendments to the marketing plan principles related to contract term and resource pools.

2025 PMI Proposal

Western's 2025 PMI proposes to extend the current marketing plan with amendments to the marketing plan principles related to the contract term and resource pools. The marketing plan principles proposed to be revised, as well as those proposed to be extended, are as follows:

Amended Marketing Plan Principles

1. Contract Term: A 30-year contract term would be used for firm electric service contracts. The firm electric service contract term would begin October 1, 2024, and expire September 30, 2054.

2. Resource Pools: The 2025 PMI would provide for resource pools of up to 1 percent of the marketable resource under contract at the time of each reallocation to be available for eligible new preference entities. Reallocations would occur at the beginning of the October 1, 2024, contract term and again every 10 years thereafter on October 1, 2034, and October 1, 2044.

Extended Marketing Plan Principles

Extension of the current marketing plan includes the following key principles not specifically addressed in the preceding section entitled “Amended Marketing Plan Principles.” The following key principles were discussed with the firm electric service customers during the informal customer input phase of this process and are included below for reference purposes.

1. Marketable Resource: Reservoir operation modeling, which employs the historic hydrologic record and assumes 2025 reservoir operating criteria, is being used to project monthly marketable energy and capacity. Projected marketable energy is the average monthly energy indicated by the modeling with provisions for: power plant station service use; energy received to compensate for Green Mountain power interference; reduced generating efficiency caused by power system regulation; Colorado-Big Thompson Project pumping; Project Use loads; and Special Use loads. For Mt. Elbert generation, only the flow-through generation resulting from the transfer of water through the Mt. Elbert Conduit to Twin Lakes is included in the marketable energy totals. Projected marketable capacity is the monthly capacity available 90 percent of the time as indicated by the modeling with provisions for: typical generating unit maintenance outages; power system reserve requirements; Colorado-Big Thompson Project on-peak pumping; Project Use loads; and Special Use loads. Mt. Elbert generating capacity was assumed to be available at all times except during times of typical unit maintenance.

Based on the marketable energy and capacity projections and taking into account the uncertainty in projecting 2025 reservoir operating criteria, the proposed 2025 PMI supports extending the existing contract rates of delivery commitments, with associated energy, to existing long-term firm electric service customers reduced by up to 1 percent for each new resource pool on October 1, 2024, October 1, 2034, and October 1, 2044.

2. Hydrology and River Operations Withdrawal Provision: Western would reserve the right to adjust, at its discretion and sole determination, the contract rate of delivery on five years advance written notice in response to changes in hydrology and river operations. Any such adjustments would take place after an appropriate public process.

3. Marketing Area: The proposed 2025 PMI supports continuing the current LAP marketing area, which is the portion of Colorado east of the Continental Divide; Mountain Parks Electric, Inc.'s, service territory in Colorado west of the Continental Divide; the portion of Kansas located in the Missouri River Basin; the portion of Kansas west of the eastern borders of the counties intersected by the 100th Meridian; the portion of Nebraska west of the 101st Meridian; and Wyoming east of the Continental Divide.

4. Mt. Elbert Pumped-Storage: The proposed 2025 PMI supports extending the Mt. Elbert Pumped-Storage contract provisions, which provide for pumped-storage energy. The full 200 MW of Mt. Elbert capacity is included in the LAP capacity allocations. Only flow-through generation is included in LAP energy allocations. Customers may schedule capacity without energy. Off-peak energy must be returned to Western commensurate with any on-peak energy taken.

Availability of Information

Documents developed or retained by Western during this public process will be available for inspection and copying at the RMR Office, located at 5555 East Crossroads Boulevard, Loveland, Colorado. Western will post information concerning the proposed 2025 PMI on its Web site at https://www.wapa.gov/rm/PMcontractRM/2025%20PMI/default.html. Written comments received as part of the 2025 PMI proposal formal public process will be available for viewing on the Web site.

2025 PMI Procedures Requirements

Environmental Compliance

Western will evaluate this action for compliance with the National Environmental Policy Act (NEPA) of 1969 (42 U.S.C. 4321-4347); the Council on Environmental Quality Regulations (40 CFR parts 1500—1508); and DOE NEPA Regulations (10 CFR 1021).

Determination Under Executive Order 12866

Western has an exemption from centralized regulatory review under Executive Order 12866; accordingly, no clearance of this notice by the Office of Management and Budget is required.

Dated: October 7, 2011.
Timothy J. Meeks,
Administrator.

[FR Doc. 2011-26750 Filed 10-14-11; 8:45 am]

BILLING CODE 6450-01-P